ENVIRONMENTAL PROTECTION AGENCY

40 CFR Part 180

[EPA-HQ-OPP-2021-0789; FRL-12976-01]

Glufosinate; Pesticide Tolerances

AGENCY: Environmental Protection Agency (EPA).

ACTION: Final rule.

SUMMARY: This regulation establishes, modifies, and revokes tolerances for residues of glufosinate (CASRN 77182-82-2) in or on rice and tea commodities. Under the Federal Food, Drug, and Cosmetic Act (FFDCA), BASF Corporation submitted a petition to EPA requesting that EPA establish a maximum permissible level for residues of this pesticide on in or on the identified commodity(ies).

DATES: This rule is effective November 20, 2025. Objections and requests for hearings must be received on or before January 20, 2026 and must be filed in accordance with the instructions provided in 40 CFR part 178 (see also Unit I.D. of this document).

ADDRESSES: The docket for this action, identified by docket identification (ID) number EPA-HQ-OPP-2021-0789, is available at https://www.regulations.gov. Additional information about dockets generally, along with instructions for visiting the docket in person, is available at https://www.epa.gov/dockets.

FOR FURTHER INFORMATION CONTACT: Charles Smith, Registration Division (7505T), Office of Pesticide Programs, Environmental Protection Agency, 1200 Pennsylvania Ave. NW, Washington, DC 20460-0001; main telephone number: (202) 566-1030; email address: RDFRNotices@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What is EPA's authority for taking this action?

EPA is issuing this rulemaking under section 408 of the Federal Food, Drug, and Cosmetic Act (FFDCA), 21 U.S.C. 346a. FFDCA section 408(b)(2)(A)(i) allows EPA to establish a tolerance (the legal limit for a pesticide chemical residue in or on a food) only if EPA determines that the tolerance is “safe.” FFDCA section 408(b)(2)(A)(ii) defines “safe” to mean that “there is a reasonable certainty that no harm will result from aggregate exposure to the pesticide chemical residue, including all anticipated dietary exposures and all other exposures for which there is reliable information.” This includes exposure through drinking water and in residential settings but does not include occupational exposure. FFDCA section 408(b)(2)(C) requires EPA to give special consideration to exposure of infants and children to the pesticide chemical residue in establishing a tolerance and to “ensure that there is a reasonable certainty that no harm will result to infants and children from aggregate exposure to the pesticide chemical residue . . .”

C. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify the docket ID number EPA-HQ-OPP-2021-0789 in the subject line on the first page of your submission. All objections and requests for a hearing must be in writing and must be received by the Hearing Clerk on or before January 20, 2026.

The EPA's Office of Administrative Law Judges (OALJ), in which the Hearing Clerk is housed, urges parties to file and serve documents by electronic means only, notwithstanding any other particular requirements set forth in other procedural rules governing those proceedings. See “Revised Order Urging Electronic Filing and Service” dated June 22, 2023, which can be found at https://www.epa.gov/system/files/documents/2023-06/2023-06-22%20-%20revised%20order%20urging%20electronic%20filing%20and%20service.pdf. Although the EPA's regulations require submission via U.S. Mail or hand delivery, the EPA intends to treat submissions filed via electronic means as properly filed submissions; therefore, the EPA believes the preference for submission via electronic means will not be prejudicial. When submitting documents to the OALJ electronically, a person should utilize the OALJ e-filing system at https://yosemite.epa.gov/oa/eab/eab-alj_upload.nsf. In addition to filing an objection or hearing request with the Hearing Clerk as described in 40 CFR part 178, please submit a copy of the filing (excluding any Confidential Business Information (CBI)) for inclusion in the public docket at https://www.regulations.gov. Follow the online instructions for submitting comments. Do not submit electronically any information you consider to be CBI or other information whose disclosure is restricted by statute. If you wish to include CBI in your request, please follow the applicable instructions at https://www.epa.gov/dockets/commenting-epa-dockets#rules and clearly mark the information that you claim to be CBI. Information not marked confidential pursuant to 40 CFR part 2 may be disclosed publicly by EPA without prior notice.

II. Petitioned-for Tolerance

In the Federal Registers of July 20, 2022 (87 FR 43232) (FRL-9410-03-OCSPP) and November 12, 2024 (89 FR 88948) (FRL-11682-09-OCSPP), EPA issued documents pursuant to FFDCA section 408(d)(3), 21 U.S.C. 346a(d)(3), announcing the filing of two pesticide petitions (PP 1E8939 and PP 1E8952) by BASF Corporation, 26 Davis Drive, Research Triangle Park, NC 27709. The petitions requested that 40 CFR 180.473 be amended by establishing tolerances for residues of the herbicide glufosinate-ammonium (butanoic acid, 2-amino-4-(hydroxymethylphosphinyl)-monoammonium salt) and its metabolites, 2-acetamido-4-methylphosphinico-butanoic acid and 3-methylphosphinico-propionic acid, expressed as 2-amino-4-(hydroxymethylphosphinyl) butanoic acid equivalents in or on dried tea leaves at 0.50 parts per million (ppm) and fresh tea leaves at 0.05 ppm (PP 1E8939); by modifying the tolerance for residues in or on “rice, grain” from 1.0 ppm to 0.9 ppm (PP 1E8952); and by revoking the tolerance for residues in or on “rice, hulls” at 2.0 ppm (PP 1E8952). The July 20, 2022, and November 12, 2024, notices of filing referenced summaries of the petitions prepared by BASF Corporation, which are available in the docket at https://www.regulations.gov. Three comments were received on the notices of filing. EPA's responses to these comments are discussed in Unit IV.C of this document.

Based upon review of the data supporting the petitions and in accordance with its authority under FFDCA section 408(d)(4)(A)(i), EPA is establishing tolerances that vary from what the petitioner sought, including by correcting the commodity definitions for the tea commodities and establishing a separate tolerance for instant tea. In addition, EPA is establishing tolerances for glufosinate rather than glufosinate ammonium. The reasons for these changes are explained in Unit IV.D of this document.

III. Final Tolerance Action

A. EPA's Safety Determination

Consistent with FFDCA section 408(b)(2)(D), and the factors specified therein, EPA has reviewed the available scientific data and other relevant information in support of this action. EPA has sufficient data to assess the hazards of and to make a determination on aggregate exposure for glufosinate, including exposure resulting from the tolerances established by this action. EPA's assessment of exposures and risks associated with glufosinate is as follows.

In an effort to streamline its publications in the Federal Register, EPA is not reprinting sections that repeat what has been previously published in tolerance rulemakings for the same pesticide chemical. Where scientific information concerning a particular chemical remains unchanged, the content of those sections would not vary between tolerance rulemakings, and EPA considers referral back to those sections as sufficient to provide an explanation of the information EPA considered in making its safety determination for the new rulemaking.

EPA has previously published tolerance rulemakings for glufosinate, most recently in the Federal Register of September 21, 2022 (87 FR 57621) (FRL-9521-01-OCSPP) and June 20, 2023 (88 FR 39776) (FRL-11019-01-OCSPP), in which EPA concluded, based on the available information, that there is a reasonable certainty that no harm would result from aggregate exposure to glufosinate and established tolerances for residues of that pesticide chemical. EPA is incorporating previously published sections from the September 21, 2022 and June 20, 2023 rulemakings as described further in this rulemaking, as they remain unchanged.

B. Toxicological Profile

For a discussion of the Toxicological Profile of glufosinate, see Unit III.A. of the September 21, 2022 rulemaking (87 FR 57621) (FRL-9521-01-OCSPP).

C. Toxicological Points of Departure/Levels of Concern

For a summary of the Toxicological Points of Departure/Levels of Concern used for the human health risk assessment, see Unit III.B. of the September 21, 2022 (87 FR 57621) (FRL-9521-01-OCSPP) rulemaking and Table 4.1 of the document titled “Glufosinate. Human Health Risk Assessment for the Establishment of Permanent Tolerances without a U.S. Registration in/on Tea and Rice” (hereinafter “Glufosinate Human Health Risk Assessment”) in docket ID number EPA-HQ-OPP-2021-0789.

D. Exposure Assessment

Much of the exposure assessment remains the same since the prior rulemakings, although updates have occurred to account for exposures from the petitioned-for tolerances. These updates are discussed in this section; for a description of the rest of the EPA approach to and assumptions for the exposure assessment, please reference Unit III.C. of the September 21, 2022 (87 FR 57621) (FRL-9521-01-OCSPP) rulemaking and Unit III. of the June 20, 2023 rulemaking (88 FR 39776) (FRL-11019-01-OCSPP).

EPA's dietary exposure assessments have been updated to include the additional exposures associated with the petitioned-for tolerances on rice and tea commodities. The acute dietary exposure assessment used the same assumptions as the June 20, 2023 rulemaking (88 FR 39776) (FRL-11019-01-OCSPP), including tolerance-level residues and 100 percent crop treated (PCT) for all crop and livestock commodities. For the chronic dietary exposure assessment, the PCT estimates were updated to 100 PCT for all crop and livestock commodities. The other refinements were the same as the June 20, 2023 rulemaking (88 FR 39776) (FRL-11019-01-OCSPP), including anticipated residues based on average field trial residue levels for plant raw agricultural commodities and experimentally determined processing factors where available. Anticipated residues for livestock commodities were also calculated and incorporated into the assessment.

1. Anticipated Residue Information

For a discussion of the FFDCA requirements regarding use of anticipated residue information in the chronic dietary exposure assessment, see Unit III.C.1.iv. of the September 21, 2022 rulemaking (87 FR 57621) (FRL-9521-01-OCSPP).

2. Drinking Water Exposure

The petitioned-for tolerances for glufosinate residues on rice and tea commodities are not associated with registrations for use of glufosinate on rice and tea commodities in the United States. They therefore do not result in an increase in the estimated residue levels in drinking water, so EPA used the same estimated drinking water concentrations in the acute and chronic dietary exposure assessments as identified in Unit III.C.2. of the September 21, 2022 rulemaking (87 FR 57621) (FRL-9521-01-OCSPP).

3. Non-Occupational Exposure

There are no new proposed residential (non-occupational) uses for glufosinate at this time; however, glufosinate is currently registered for uses that could result in residential handler and post-application exposures, including use on lawn and turf as well as recreational sites such as golf courses. For a summary of those exposures, see Unit III.C.3. of the September 21, 2022 rulemaking (87 FR 57621) (FRL-9521-01-OCSPP).

4. Cumulative Exposure

Section 408(b)(2)(D)(v) of FFDCA requires that, when considering whether to establish, modify, or revoke a tolerance, the Agency consider “available information” concerning the cumulative effects of a particular pesticide's residues and “other substances that have a common mechanism of toxicity.” Unlike other pesticides for which EPA has followed a cumulative risk approach based on a common mechanism of toxicity, EPA has not made a common mechanism of toxicity finding as to glufosinate and any other substances, and glufosinate does not appear to produce a toxic metabolite produced by other substances. For purposes of this tolerance action, therefore, EPA has not assumed that glufosinate has a common mechanism of toxicity with other substances.

5. Safety Factor for Infants and Children

EPA continues to conclude that there are reliable data to support the reduction of the Food Quality Protection Act (FQPA) safety factor to 1X for acute dietary exposure. For all other exposure scenarios, EPA is retaining a 10X FQPA safety factor. See Unit III.D. of the September 21, 2022 (87 FR 57621) (FRL-9521-01-OCSPP) rulemaking for a discussion of the Agency's rationale for that determination.

6. Aggregate Risks and Determination of Safety

EPA determines whether acute and chronic dietary pesticide exposures are safe by comparing aggregate exposure estimates to the acute population-adjusted dose (aPAD) and the chronic population-adjusted dose (cPAD). For linear cancer risks, EPA calculates the lifetime probability of acquiring cancer given the estimated aggregate exposure. Short-, intermediate-, and chronic term aggregate risks are evaluated by comparing the estimated total food, water, and residential exposure to the appropriate points of departure to ensure that an adequate margin of exposure (MOE) exists.

Acute dietary risks are below the Agency's level of concern of 100% of the aPAD; they are 26% of the aPAD for females 13-49 years old, the only population subgroup for which an acute toxic effect was identified. Chronic dietary risks are below the Agency's level of concern of 100% of the cPAD; they are 66% of the cPAD for all infants (<1 year old), the most highly exposed population subgroup.

The short-term aggregate exposure assessment includes dietary (food and drinking water) and dermal exposure from high contact lawn activity on treated lawns for adults and dermal plus incidental oral exposure from high contact lawn activity on treated lawns for children 1 to less than 2 years old. The short-term aggregate MOE for adults 20 to 49 years old is 4,600. The short-term aggregate MOE for children 1 to less than 2 years old is 1,000. These short-term aggregate MOEs are not of concern because an MOE equal to or greater than the level of concern of 1,000 is not of concern.

Glufosinate is classified as “Not Likely To Be Carcinogenic to Humans” based on the lack of evidence of a treatment-related increase in tumors in two adequate rodent carcinogenicity studies.

Therefore, based on the risk assessments and information described above, EPA concludes there is a reasonable certainty that no harm will result to the general population, or to infants and children, from aggregate exposure to glufosinate residues. More detailed information on this action can be found in the Glufosinate Human Health Risk Assessment in docket ID number EPA-HQ-OPP-2021-0789.

IV. Other Considerations

A. Analytical Enforcement Methodology

For a discussion of the available analytical enforcement method for various crops, see Unit IV.A. of the September 21, 2022 rulemaking (87 FR 57621) (FRL-9521-01-OCSPP).

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex is a joint United Nations Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The U.S. tolerance for “rice, grain” is harmonized with the Codex MRL of 0.9 ppm. The Codex has not established an MRL for glufosinate in or on tea (dried, instant, or plucked). However, there is an established Chinese MRL for tea at 0.5 ppm; the proposed tolerance for tea, dried is harmonized with this MRL.

C. Response to Comments

EPA received one comment from American Bird Conservancy (ABC) on the July 20, 2022 notice of filing. The comment requested that no new tolerances be approved for glufosinate due to its organophosphorus nature and that all current uses of glufosinate be suspended until a full biological opinion can be performed. The Agency understands ABC's concerns and recognizes that some individuals and organizations believe that certain pesticides should be banned. However, ABC's comment is primarily concerned with EPA's consideration of the impacts of glufosinate on the environment and endangered species. Such consideration is not relevant to the Agency's evaluation of the safety of glufosinate tolerances under section 408 of the FFDCA, which requires the Agency to evaluate the potential harms to human health, not effects on the environment.

Moreover, the existing legal framework provided by section 408 of the FFDCA authorizes EPA to establish tolerances when it determines that the tolerances meet the safety standard imposed by the statute. Upon consideration of the validity, completeness, and reliability of the available data as well as other factors the FFDCA requires EPA to consider, EPA has determined that the glufosinate tolerances are safe. ABC has made no contention that EPA has acted in violation of the statutory framework or that a safety determination cannot be supported. Although ABC asserts that glufosinate is linked to multiple human health risks, EPA has reviewed the cited sources and observed that the hazards identified are either consistent with the toxicological information presented in the Glufosinate Human Health Risk Assessment or reflect effects after acute glufosinate poisonings resulting from product misuse (i.e., situations where individuals intentionally ingested a liquid formulated product containing glufosinate). EPA's human health risk assessments typically do not assess for this type of misuse; rather, they protect for potential health impacts from labeled uses.

EPA also received two comments from private citizens on the November 12, 2024, notice of filing. The first comment stated that there should be stronger regulations surrounding the use of pesticides in the United States. The second comment opposed the proposed tolerance amendments for “rice, grain” and “rice, hull” because of health concerns and the lack of explanation for the amendments. As stated above, the existing legal framework provided by section 408 of the FFDCA authorizes EPA to establish tolerances when it determines that the tolerances meet the safety standard imposed by the statute; the comments made no contention that EPA has acted in violation of the statutory framework or that a safety determination cannot be supported. This action revokes the tolerance for “rice, hull” and lowers the tolerance for “rice, grain” imported into the United States, as requested, since unhulled rice is rarely imported and there are no registered domestic uses of glufosinate in or on rice. EPA also notes that lowering the tolerance for “rice, grain” from 1.0 ppm to 0.9 ppm harmonizes the U.S. tolerance with the Codex MRL, consistent with section 408(b)(4) of the FFDCA, and that revoking the tolerance for “rice, hull” at 2.0 ppm means that any glufosinate residues on the commodity would be unlawful.

D. Revisions to Petitioned-for Tolerances

The petition requested tolerances for “tea, dried leaves (green and black)” at 0.50 ppm and “tea, fresh leaves” at 0.05 ppm. EPA is correcting the commodity definitions to “Tea, dried” and “Tea, plucked leaves” respectively to align with the Agency's current preferred commodity vocabulary and is removing the trailing zero from the “Tea, dried” tolerance value for consistency with the Organization for Economic Co-operation and Development (OECD) Rounding Class Practice. The Agency is also establishing a separate tolerance for the processed commodity “Tea, instant” at 0.09 ppm because residue data showed that glufosinate and its metabolite 3-(hydroxymethylphosphinyl) propanoic acid (MPP) concentrate in instant tea.

In addition, EPA is establishing tolerances for glufosinate, rather than glufosinate ammonium as requested. As explained in Unit III.V. of the September 21, 2022 rulemaking (87 FR 57621) (FRL-9521-01-OCSPP), EPA revised the tolerance expressions for glufosinate in 40 CFR 180.473 to clarify that the tolerance for the active ingredient will be referred to as glufosinate (i.e., the racemic mixture). Glufosinate is a racemic mixture of the D- and L-enantiomers, with the L-enantiomer being responsible for its herbicidal activity. Glufosinate can exist in multiple forms, including the acid, ammonium, and sodium forms; other salt forms of glufosinate may be possible as well. While there are presently only registrations for the ammonium form of racemic glufosinate, future registration requests may be submitted for the acid, sodium, or other forms. The tolerances for glufosinate established in this action would cover all these forms.

E. International Trade Considerations

BASF requested the existing tolerance on “rice, grain” be modified to harmonize with the existing Codex MRL to support glufosinate use on rice commodities imported into the United States, and the existing “rice, hull” tolerance be revoked. Therefore, in this rule, EPA is establishing a tolerance for glufosinate residues in or on “rice, grain: at 0.9 ppm, which is lower than the existing tolerance for “rice, grain” at 1.0 ppm. The “rice, grain” tolerance of 0.9 ppm is supported by residue data provided by the petitioner for rice commodities imported into the Unites States.

In accordance with the World Trade Organization's (WTO) Sanitary and Phytosanitary Measures (SPS) Agreement, EPA intends to notify the WTO of the changes to these tolerances in order to satisfy its obligations under the Agreement. In addition, the SPS Agreement requires that Members provide a “reasonable interval” between the publication of a regulation subject to the Agreement and its entry into force to allow time for producers in exporting Member countries to adapt to the new requirement. Accordingly, EPA is establishing an expiration date for the existing “rice, grain” tolerance of 1.0 ppm and “rice, hull” tolerance at 2.0 ppm to allow these tolerances to remain in effect for a period of six months after the effective date of this final rule. At the end of the six-month period, the “rice, grain” tolerance at 1.0 ppm and “rice, hull” tolerance at 2.0 ppm will expire, as indicated in the regulatory text, and residues on “rice, grain” must conform to the new tolerance for “rice, grain” at 0.9 ppm. This reduction in tolerance level is not discriminatory; the same safety standard contained in the FFDCA applies equally to domestically produced and imported foods. The new tolerance level is supported by available residue data.

V. Conclusion

Therefore, tolerances are established for residues of glufosinate, (2-amino-4-(hydroxymethylphosphinyl)butanoic acid) and its metabolites, 2-(acetylamino)-4-(hydroxymethyl phosphinyl) butanoic acid, and 3-(hydroxymethylphosphinyl) propanoic acid, expressed as 2-amino-4-(hydroxymethylphosphinyl)butanoic acid equivalents, in or on tea, dried at 0.5 ppm; tea, instant at 0.09 ppm; tea, plucked leaves at 0.05 ppm; and “rice, grain” at 0.9 ppm. The existing “rice, grain” tolerance at 1.0 ppm and “rice, hull” tolerance at 2.0 ppm are amended to expire six months after the effective date of this final rule, as explained above.

As a housekeeping measure, EPA is removing the tolerance for residues of glufosinate in or on banana at 0.30 ppm because it expired on December 20, 2023, as described in the Federal Register of June 20, 2023 (88 FR 39776) (FRL-11019-01-OCSPP). Because the tolerance is no longer valid, there is no substantive impact to its removal.

VI. Statutory and Executive Order Reviews

Additional information about these statutes and Executive Orders can be found at https://www.epa.gov/regulations/and-executive-orders.

A. Executive Order 12866: Regulatory Planning and Review

This action is exempt from review under Executive Order 12866 (58 FR 51735, October 4, 1993), because it establishes or modifies a pesticide tolerance or a tolerance exemption under FFDCA section 408 in response to a petition submitted to the Agency. The Office of Management and Budget (OMB) has exempted these types of actions from review under Executive Order 12866.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

This action is not subject to the RFA, 5 U.S.C. 601 et seq. The RFA applies only to rules subject to notice and comment rulemaking requirements under the Administrative Procedure Act (APA), 5 U.S.C. 553, or any other statute. This rule is not subject to the APA but is subject to FFDCA section 408(d), which does not require notice and comment rulemaking to take this action in response to a petition.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local, or Tribal governments or on the private sector.

F. Executive Order 13132: Federalism

This action does not have federalism implications as specified in Executive Order 13132 (64 FR 43255, August 10, 1999), because it will not have substantial direct on the states, on the relationship between the National Government and the States, or on the distribution of power and responsibilities among the various levels of government.

G. Executive Order 13175: Consultation and Coordination With Indian Tribal Governments

This action does not have Tribal implications as specified in Executive Order 13175 (65 FR 67249, November 9, 2000), because it will not have substantial direct effects on Tribal governments, on the relationship between the Federal Government and the Indian Tribes, or on the distribution of power and responsibilities between the Federal Government and Indian Tribes.

H. Executive Order 13045: Protection of Children From Environmental Health Risks and Safety Risks

This action is not subject to Executive Order 13045 (62 FR 19885, April 23, 1997) because tolerance actions like this one are exempt from review under Executive Order 12866. However, EPA's 2021 Policy on Children's Health applies to this action.

This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Environmental protection, Administrative practice and procedure, Agricultural commodities, Pesticides and pests, Reporting and recordkeeping requirements.

Dated: November 17, 2025.
Charles Smith,
Director, Registration Division, Office of Pesticide Programs.

Therefore, for the reasons stated in the preamble, EPA is amending 40 CFR chapter I is amended as follows:

PART 180—TOLERANCES AND EXEMPTIONS FOR PESTICIDE CHEMICAL RESIDUES IN FOOD

1. The authority citation for part 180 continues to read as follows:

Authority: 21 U.S.C. 321(q), 346a and 371.

2. In § 180.473, amend Table 1 to Paragraph (a)(1) by: a. Removing the entries for “Banana ¹” and “Rice, grain”;

b. Adding in alphabetical order the entries “Rice, grain¹” and “Rice, grain ²”;

c. Revising the entry for “Rice, hull”; and

d. Adding in alphabetical order the entries “Tea, dried”, “Tea, instant”, and “Tea, plucked leaves” and footnotes 1 and 2 at the end of the table.The additions and revisions read as follows:

§ 180.473 Glufosinate; tolerances for residues.

(a) * * *

(1) * * *

Table 1 to Paragraph (a)(1)
Commodity | Parts per million
* * * * *
Rice, grain ¹ | 0.9
Rice, grain ² | 1.0
Rice, hull ² | 2.0
* * * * *
Tea, dried ¹ | 0.5
Tea, instant ¹ | 0.09
Tea, plucked leaves ¹ | 0.05
* * * * *
¹ There are no U.S. registrations as of November 20, 2025.
² This tolerance expires on May 20, 2025.

* * * * *

[FR Doc. 2025-20399 Filed 11-19-25; 8:45 am]

BILLING CODE 6560-50-P